DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date: December 1, 2010, 9 a.m.-2:30 p.m., December 2, 2010, 9:30 a.m.-1 p.m.

Place: Marriott Washington Hotel, 1221 22nd Street, NW., Washington, DC 20037, (202) 872-1500.

Status: Open.

Purpose: At this meeting the Committee will hear presentations and hold discussions on several health data policy topics. On the morning of the first day the Committee will hear updates from the Department and the Office of the National Coordinator. There will also be a report on the NCVHS Executive Subcommittee's discussion of the Committee's review and decision-information flow process. In the afternoon there will be a discussion of a letter to the HHS Secretary regarding the quality measures roadmap.

On the morning of the second day there will be a review of the final letter to the Secretary regarding the quality measures roadmap. There will also be an update from the Centers for Medicaid and Medicare Services (CMS) and an update on HHS Data Initiatives from the Department. Subcommittees will also present their reports.

The times shown above are for the full Committee meeting. Subcommittee breakout sessions can be scheduled for late in the afternoon of the first day and second day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: November 15, 2010.
James Scanlon,
Deputy Assistant Secretary for Planning and Evaluation—Science and Data Policy, Office of the Assistant Secretary for Planning and Evaluation.

[FR Doc. 2010-29216 Filed 11-18-10; 8:45 am]

BILLING CODE 4151-05-P